DEPARTMENT OF THE INTERIOR

Bureau of Reclamation

Supplemental Environmental Impact Statement on the AB Lateral Hydropower Project in Montrose County, CO

AGENCY: Bureau of Reclamation, Interior.

ACTION: Notice of cancellation.

SUMMARY: The Bureau of Reclamation is canceling plans to prepare a supplemental environmental impact statement (EIS) on the AB Lateral Hydropower Project. The hydropower project planned to use existing facilities of the Uncompahgre Valley Reclamation Project and would have been located in Montrose County, Colorado. The reason for canceling is that the project proponents, including the Uncompahgre Valley Water User's Association, have elected not to pursue approval of the project at this time.

FOR FURTHER INFORMATION CONTACT: Mr. Steve McCall, Chief, Environmental Staff, Bureau of Reclamation, Western Colorado Area Office, 2764 Compass Drive, Suite 106, Grand Junction, Colorado 81506, telephone, (970) 248-0638.

SUPPLEMENTARY INFORMATION: Reclamation filed a final EIS on the project in 1990 and the supplemental EIS was planned to address changes in the project plan and changes in resource evaluations. The primary federal actions on this project would have been execution of a lease of power privilege (a type of contract) with Reclamation and the granting of a Section 404 permit under the Clean Water Act from the U.S. Army Corps of Engineers.

Dated: February 9, 2005.
Connie L. Rupp,
Assistant Regional Director—UC Region, Bureau of Reclamation.

[FR Doc. 05-3896 Filed 2-28-05; 8:45 am]

BILLING CODE 4310-MN-P